ENVIRONMENTAL PROTECTION AGENCY

[FRL-7097-9]

Proposed CERCLA Administrative Cost Recovery Settlement; Cliff/Dow Dump, Marquette, MI

AGENCY: Environmental Protection Agency (EPA).

ACTION: Notice; request for public comment.

SUMMARY: In accordance with section 122(i) the Comprehensive Environmental Response, Compensation, and Liability Act, as amended (“CERCLA”), 42 U.S.C. 9622(i), notice is hereby given of a proposed administrative settlement for recovery of past response costs concerning the Cliff/Dow Dump site in Marquette, Michigan with the following setting parties: The Cleveland-Cliffs Iron Company, The Dow Chemical Company, Georgia-Pacific Corporation and the City of Marquette, Michigan. The settlement requires the setting parties to pay $412,600 to the EPA Hazardous Substances Superfund. The settlement includes a covenant not to sue the settling parties pursuant to section 107(a) of CERCLA, 42 U.S.C. 9607(a). For thirty (30) days following the date of publication of this notice, the Agency will receive all written comments relating to the settlement. The Agency will consider all comments and may modify or withdraw its consent to the settlement if comments received disclose facts or considerations which indicate that the settlement is inappropriate, improper, or inadequate. The Agency's response to any comments received will be available for public inspection at U.S. EPA, Region 5, Administrative Records, 77 W. Jackson Boulevard, Chicago, IL 60604 (312) 886-0900; the Peter White Public Library, 217 N. Front St. Marquette, MI 49855; and the Michigan Department of Environmental Quality, Knapps Center, Lansing, Michigan 48909.

DATES: Comments must be submitted on or before December 3, 2001.

ADDRESSES: The proposed settlement is available for public inspection at U.S. EPA, Region 5, 77 W. Jackson Boulevard, Chicago, IL 60640. A copy of the proposed settlement may be obtained from Christine M. Liszewski, at U.S. EPA, Region 5, 77 W. Jackson Boulevard (C-14J), Chicago, IL 60640, phone (312) 886-4670. Comments should reference the Cliff/Dow Dump located in Marquette, Michigan, and Docket No. V-W-01-C-655 and should be addressed to Christine M. Liszewski, U.S. EPA, Region 5, 77 W. Jackson Boulevard (C-14J), Chicago, IL 60640.

FOR FURTHER INFORMATION CONTACT: Christine M. Liszewski, at U.S. EPA, Region 5, 77 W. Jackson Boulevard (C-14J), Chicago, IL 60640, phone (312) 886-4670.

Dated: October 10, 2001.
William E. Muno,
Director, Superfund Division, Region 5.

[FR Doc. 01-27592 Filed 11-1-01; 8:45 am]

BILLING CODE 6560-50-M